ENVIRONMENTAL PROTECTION AGENCY

40 CFR Part 52

[EPA-R08-OAR-2024-0468; FRL-12884-02-R8]

Air Plan Approval; Colorado; Inspection and Maintenance Program Revision

AGENCY: Environmental Protection Agency (EPA).

ACTION: Final rule.

SUMMARY: The Environmental Protection Agency (EPA) is approving a revision to the Colorado State Implementation Plan (SIP). The revision includes changes to the motor vehicle inspection and maintenance (I/M) program of the State of Colorado. The EPA is taking this action pursuant to the Clean Air Act (CAA).

DATES: This rule is effective on December 18, 2025.

ADDRESSES: The EPA has established a docket for this action under Docket ID No. EPA-R08-OAR-2024-0468. All documents in the docket are listed on the http://www.regulations.gov website. Although listed in the index, some information is not publicly available, e.g., CBI or other information whose disclosure is restricted by statute. Certain other material, such as copyrighted material, is not placed on the internet and will be publicly available only in hard copy form. Publicly available docket materials are available through http://www.regulations.gov, or please contact the person identified in the FOR FURTHER INFORMATION CONTACT section for additional availability information.

FOR FURTHER INFORMATION CONTACT: Gregory Lohrke, Air and Radiation Division, EPA, Region 8, Mailcode 8ARD-IO, 1595 Wynkoop Street, Denver, Colorado 80202-1129, (303) 312-6396, lohrke.gregory@epa.gov.

SUPPLEMENTARY INFORMATION: Throughout this document “we,” “us,” and “our” means the EPA.

I. Background

The background for this action is discussed in detail in our August 7, 2025, proposal (90 FR 38088). In that document we proposed to approve state-initiated revisions to the Colorado Air Quality Control Commission's Regulation Number 11, “Motor Vehicle Emissions Inspection Program” (hereafter, “Regulation No. 11”) as a revision to the Colorado SIP. Colorado submitted these changes to state regulation to the EPA as a SIP revision on May 16, 2022. The Colorado I/M program is maintained by the State and periodically revised for compliance with the applicable program requirements for SIPs under CAA sections 182(a)(2)(B), 182(b)(4), and 182(c)(3) and the EPA's regulations under 40 CFR part 51, subpart S for certain nonattainment areas for the 2008 and 2015 ozone national ambient air quality standards (NAAQS).

In the EPA's August 7, 2025, proposed rule to approve Colorado's SIP revision, we detailed the various changes to Regulation No. 11 and the resultant effects on the state's I/M program. Proposed approval of Colorado SIP revisions was limited to changes to Regulation No. 11, Part A, Part B, Part C, and Part D, and did not consider any revisions to state regulation which were submitted as “state-only” strengthening provisions that did not inhibit effectiveness of the I/M program. The EPA's proposed approval documented our evaluation of the substantive changes to the Colorado I/M program and found all revisions submitted for federal approval to have no negative impact on emission reduction benefits provided by the I/M program and to be consistent with applicable CAA requirements.¹ No comments were received on the proposed approval of the Colorado SIP revision, adverse or otherwise.

¹ See CAA section 110(l).

II. Final Action

The EPA is approving the changes to Colorado's Regulation 11. Specifically, we are finalizing approval of Colorado SIP revisions submitted to the EPA on May 16, 2022, amending Regulation No. 11, Part A, sections I, II, IV, and V, Part B, section XI, Part C, sections II, III, VIII, XI, and XII, and Part D, sections I, II, and III.

III. Incorporation by Reference

In this document, the EPA is finalizing regulatory text that includes incorporation by reference. In accordance with requirements of 1 CFR 51.5, the EPA is finalizing the incorporation by reference of the Colorado Air Quality Control Commission regulations found in the Code of Colorado Regulations (CCR) at 5 CCR 1001-13 as described in the amendments to 40 CFR part 52 set forth below. The EPA has made, and will continue to make, these materials generally available through www.regulations.gov and at the EPA Region 8 Office (please contact the person identified in the FOR FURTHER INFORMATION CONTACT section of this preamble for more information). Therefore, these materials have been approved by the EPA for inclusion in the SIP, have been incorporated by reference by the EPA into that plan, are fully federally enforceable under sections 110 and 113 of the CAA as of the effective date of the final rulemaking of the EPA's approval, and will be incorporated by reference in the next update to the SIP compilation.²

² 62 FR 27968 (May 22, 1997).

IV. Statutory and Executive Order Reviews

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and the EPA will submit a rule report to each House of the Congress and to the Comptroller General of the United States. This action is not a “major rule” as defined by 5 U.S.C. 804(2).

List of Subjects in 40 CFR Part 52

Environmental protection, Air pollution control, Carbon monoxide, Incorporation by reference, Intergovernmental relations, Nitrogen oxides, Ozone, Reporting and recordkeeping requirements, Volatile organic compounds.

Dated: October 29, 2025.
Cyrus M. Western,
Regional Administrator, Region 8.

For the reasons stated in the preamble, the Environmental Protection Agency is amending 40 CFR part 52 as follows:

PART 52—APPROVAL AND PROMULGATION OF IMPLEMENTATION PLANS

1. The authority citation for part 52 continues to read as follows:

Authority: 42 U.S.C. 7401 et seq.

Subpart G—Colorado

2. In § 52.320, the table in paragraph (c) is amended by:

a. Under the heading “5 CCR 1001-13, Regulation Number 11, Motor Vehicle Emissions Inspection Program—Part A, General Provisions, Area of Applicability, Schedules for Obtaining Certification of Emissions Control, Definitions, Exemptions, and Clean Screening/Remote Sensing”, revising the entries “I. Applicability”, “II. Definitions”, “IV. Clean Screen/Remote Emissions Sensing”, and “V. Expansion of the Enhanced Emissions Program to the North Front Range Area”;

b. Under the heading “5 CCR 1001-13, Regulation Number 11, Motor Vehicle Emissions Inspection Program—Part B, Standards and Procedures for the Approval, Operation, Gas Span Adjustment, Calibration and Certification of the Division Approved Test Analyzer Systems for Use in the Basic and Enhanced Areas and Test Analyzer Systems for Licensed Dealers in the Enhanced Area”, adding entry “XI. Requests for Approval of Clean Screen Test Analyzer Systems” in numerical order;

c. Under the heading “5 CCR 1001-13, Regulation Number 11, Motor Vehicle Emissions Inspection Program—Part C, Inspection Procedures and Requirements for Exhaust Emissions, Fuel Evaporation Control, Visible Smoke Emissions, Emissions Control Systems, On-Board Diagnostics (OBD); and Practices to Ensure Proper Emissions Related Adjustments and Repairs”, revising the entries “II. Exhaust Emissions Inspection Procedures”, “III. Emissions Control Systems Inspection Procedures”, “VIII. Certification of Emissions Control”, “XI. Engine Changes”, and “XII. Clean Screen Inspection Program Procedures”; and

d. Under the heading “5 CCR 1001-13, Regulation Number 11, Motor Vehicle Emissions Inspection Program—Part D, Qualification and Licensing of Emissions Mechanics, Emissions Inspectors and Clean Screen Inspectors; Licensing of Emissions Inspection and Readjustment Stations, Inspection-Only Stations, Inspection-Only Facilities, Fleets, Motor Vehicle Dealer Test Facilities and Enhanced Inspection Centers; Qualification of Clean Screen Inspection Sites; and Registration of Emissions Related Repair Facilities and Technicians”, revising the entries “I. Licensing of Emissions Inspection and Readjustment Stations, Inspection-Only Stations, Inspection-Only Facilities, Enhanced Inspection Centers, Fleet Inspection Stations and Motor Vehicle Dealer Test Facilities”, “II. Qualification and Licensing of Emission Mechanics, and Emissions Inspectors”, and “III. Registration of Emissions Related Repair Facilities”.

The revisions and addition read as follows:

§ 52.320 Identification of plan.

* * * * *

(c) * * *

Title | State effective date | EPA effective date | Final rule citation/date | Comments
* * * * * * *
5 CCR 1001-13, Regulation Number 11, Motor Vehicle Emissions Inspection Program—Part A, General Provisions, Area of Applicability, Schedules for Obtaining Certification of Emissions Control, Definitions, Exemptions, and Clean Screening/Remote Sensing
I. Applicability | 10/15/2021 | 12/18/2025 | 90 FR [insert Federal Register page where the document begins], 11/18/2025 |
II. Definitions | 10/15/2021 | 12/18/2025 | 90 FR [insert Federal Register page where the document begins], 11/18/2025 |
* * * * * * *
IV. Clean Screen/Remote Emissions Sensing | 10/15/2021 | 12/18/2025 | 90 FR [insert Federal Register page where the document begins], 11/18/2025 |
V. Expansion of the Enhanced Emissions Program to the North Front Range Area | 10/15/2021 | 12/18/2025 | 90 FR [insert Federal Register page where the document begins], 11/18/2025 |
5 CCR 1001-13, Regulation Number 11, Motor Vehicle Emissions Inspection Program—Part B, Standards and Procedures for the Approval, Operation, Gas Span Adjustment, Calibration and Certification of the Division Approved Test Analyzer Systems for Use in the Basic and Enhanced Areas and Test Analyzer Systems for Licensed Dealers in the Enhanced Area
* * * * * * *
XI. Requests for Approval of Clean Screen Test Analyzer Systems | 10/15/2021 | 12/18/2025 | 90 FR [insert Federal Register page where the document begins], 11/18/2025 |
5 CCR 1001-13, Regulation Number 11, Motor Vehicle Emissions Inspection Program—Part C, Inspection Procedures and Requirements for Exhaust Emissions, Fuel Evaporation Control, Visible Smoke Emissions, Emissions Control Systems, On-Board Diagnostics (OBD); and Practices to Ensure Proper Emissions Related Adjustments and Repairs
* * * * * * *
II. Exhaust Emissions Inspection Procedures | 10/15/2021 | 12/18/2025 | 90 FR [insert Federal Register page where the document begins], 11/18/2025 |
III. Emissions Control Systems Inspection Procedures | 10/15/2021 | 12/18/2025 | 90 FR [insert Federal Register page where the document begins], 11/18/2025 |
* * * * * * *
VIII. Certification of Emissions Control | 10/15/2021 | 12/18/2025 | 90 FR [insert Federal Register page where the document begins], 11/18/2025 |
* * * * * * *
XI. Engine Changes | 10/15/2021 | 12/18/2025 | 90 FR [insert Federal Register page where the document begins], 11/18/2025 |
XII. Clean Screen Inspection Program Procedures | 10/15/2021 | 12/18/2025 | 90 FR [insert Federal Register page where the document begins], 11/18/2025 |
5 CCR 1001-13, Regulation Number 11, Motor Vehicle Emissions Inspection Program—Part D, Qualification and Licensing of Emissions Mechanics, Emissions Inspectors and Clean Screen Inspectors; Licensing of Emissions Inspection and Readjustment Stations, Inspection-Only Stations, Inspection-Only Facilities, Fleets, Motor Vehicle Dealer Test Facilities and Enhanced Inspection Centers; Qualification of Clean Screen Inspection Sites; and Registration of Emissions Related Repair Facilities and Technicians
* * * * * * *
I. Licensing of Emissions Inspection and Readjustment Stations, Inspection-Only Stations, Inspection-Only Facilities, Enhanced Inspection Centers, Fleet Inspection Stations and Motor Vehicle Dealer Test Facilities | 10/15/2021 | 12/18/2025 | 90 FR [insert Federal Register page where the document begins], 11/18/2025 |
II. Qualification and Licensing of Emission Mechanics, and Emissions Inspectors | 10/15/2021 | 12/18/2025 | 90 FR [insert Federal Register page where the document begins], 11/18/2025 |
III. Registration of Emissions Related Repair Facilities | 10/15/2021 | 12/18/2025 | 90 FR [insert Federal Register page where the document begins], 11/18/2025 |
* * * * * * *

* * * * *

[FR Doc. 2025-20205 Filed 11-17-25; 8:45 am]

BILLING CODE 6560-50-P